DEPARTMENT OF ENERGY

Federal Energy Regulatory Commission

Notice of Revocation of Market-Based Rate Tariff

| Docket Nos.
Electric Quarterly Reports | ER02-2001-020
Bargain Energy, LLC | ER14-1343-001
CES Placerita, Incorporated | ER14-57-000
DES Wholesale, LLC | ER12-1770-001
DownEast Power Company, LLC | ER10-1304-002
Escanaba Green Energy, LLC | ER12-2307-001
LVI Power, LLC | ER12-2484-000
Madstone Energy Corp | ER11-4482-000
NiGen, LLC | ER15-567-001
R&R Energy, Inc | ER11-4711-002
Tall Bear Group, LLC | ER12-2374-000

On October 27, 2016, the Commission issued an order announcing its intent to revoke the market-based rate authority of the public utilities listed in the caption of that order, which had failed to file their required Electric Quarterly Reports.¹ The Commission directed those public utilities to file the required Electric Quarterly Reports within 15 days of the date of issuance of the order or face revocation of their authority to sell power at market-based rates and termination of their electric market-based rate tariffs.²

¹ Electric Quarterly Reports, 157 FERC 61,058 (2016) (October 27 Order).

² Id. at Ordering Paragraph A.

The time period for compliance with the October 27 Order has elapsed. The above-captioned companies failed to file their delinquent Electric Quarterly Reports. The Commission hereby revokes the market-based rate authority and terminates the electric market-based rate tariff of each of the companies who are named in the caption of this order.

Dated: January 9, 2017.
Kimberly D. Bose,
Secretary.

[FR Doc. 2017-00930 Filed 1-17-17; 8:45 am]

BILLING CODE 6717-01-P